DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Pub. L. 104-13 (44 U.S.C. 3506(c)(2)(A)). Currently, the Bureau of Alcohol, Tobacco and Firearms within the Department of the Treasury is soliciting comments concerning the Evaluation of Training, Arson For Prosecutors Training Program (Follow-up Survey).

DATES: Written comments should be received on or before October 21, 2002 to be assured of consideration.

ADDRESSES: Direct all written comments to Bureau of Alcohol, Tobacco and Firearms, Linda Barnes, 650 Massachusetts Avenue, NW., Washington, DC 20226, (202) 927-8930.

FOR FURTHER INFORMATION CONTACT: Requests for additional information or copies of the form(s) and instructions should be directed to Joanne Bailey, Learning Systems Management Division, 800 K Street, NW., Suite 600, Washington, DC 20001, (202) 927-3086.

SUPPLEMENTARY INFORMATION: Title: Evaluation of Training, Arson For Prosecutors Training Program (Follow-up Survey).

Abstract: ATF is conducting training evaluation to determine the effectiveness and value of its training programs. The information collected on the survey will provide ATF with data on how the training participants have transferred the knowledge and skills learned to their jobs. This data will help ATF determine whether the training program is consistently meeting objectives and impacting the performance of the individuals in their work place.

Current Actions: New information collection.

Type of Review: New.

Affected Public: State, Local, or Tribal Government.

Estimated Number of Respondents: 125.

Estimated Total Annual Burden Hours: 63.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated August 8, 2002.
William T. Earle,
Assistant Director (Management) CFO.

[FR Doc. 02-20876 Filed 8-19-02; 8:45 am]

BILLING CODE 4810-31-P